DEPARTMENT OF TRANSPORTATION

Research and Special Programs Administration

Pipeline Safety: Revised Natural Gas Transmission Pipeline Incident and Annual Report Forms

AGENCY: Research and Special Programs Administration (RSPA), DOT.

ACTION: Notice; issuance of an advisory bulletin.

SUMMARY: The Research and Special Programs Administration's (RSPA), Office of Pipeline Safety (OPS), advises owners and operators of natural gas transmission pipeline operators of changes in the annual report and incident reporting forms.

FOR FURTHER INFORMATION CONTACT: Roger Little, (202) 366-4569, or by e-mail, roger.little@rspa.dot.gov. This document can be viewed at the OPS home page at http://ops.dot.gov.

SUPPLEMENTARY INFORMATION:

I. Background

In a Federal Register notice on August 2, 2000, (65 FR 47585) RSPA/OPS proposed to revise the incident and annual reports for gas transmission and gathering systems. After considering public comments, RSPA/OPS published a Federal Register notice on May 8, 2001 (66 FR 23316) to revise forms RSPA F 7100.2, Incident Report for Gas Transmission and Gathering Systems, and RSPA F 7100.2-1, Annual Report for Gas Transmission and Gathering Systems for use by operators in filing reports due on or after January 1, 2002.

The Federal pipeline safety regulations require gas transmission pipeline operators to file incident reports as specified at 49 CFR 191.15 and annual reports as specified at 49 CFR 191.17. The information collected on natural gas pipeline systems and incidents are an important source of data for identifying safety trends and for managing RSPA/OPS pipeline safety programs.

The studies of natural gas transmission pipeline incident report information revealed deficiencies in the data collected on these forms. In addition, the National Transportation Safety Board (NTSB) and the General Accounting Office have urged RSPA/OPS to revise the information collected on the natural gas pipeline incident and annual report forms to improve its usefulness. NTSB Safety Recommendation P-96-1 suggests that RSPA/OPS:

* * * develop within 1 year and implement within 2 years a comprehensive plan for the collection and use of gas and hazardous liquid pipeline accident data that details the type and extent of data to be collected, to provide [RSPA] with the capability to perform methodologically sound accident trend analyses and evaluations of pipeline operator performance using normalized accident data.

Additional information is needed on natural gas transmission operator annual reports for normalizing the incident information and for adequately characterizing the nation's natural gas pipeline infrastructure. RSPA/OPS worked with representatives of the Interstate Natural Gas Association of America and the American Gas Association to review the natural gas transmission incident and annual report forms to make the information collected more useful to industry, government, and the public.

RSPA/OPS has revised the incident and annual report forms to improve the usefulness of the reported data. The failure cause categories have been expanded from five to 25 on the incident report. The annual report form includes two new sections: (1) Mileage by decade of installation and (2) mileage by class location.

II. Advisory Bulletin (ADB-02-01)

To: Owners and Operators of Natural Gas Transmission Systems.

Subject: Revised Natural Gas Transmission Pipeline Incident and Annual Report Forms.

Purpose: To inform gas transmission pipeline owners and operators that revised forms RSPA F 7100.2, Incident Report for Gas Transmission and Gathering Systems, and RSPA F 7100.2-1, Annual Report for Gas Transmission and Gathering Systems, are ready and available for use by natural gas transmission pipeline owners and operators, and accessible from the OPS website.

Advisory: As of January 1, 2002, owners and operators of gas transmission pipeline systems should use only the revised forms RSPA F 7100.2, Incident Report for Gas Transmission and Gathering Systems, and RSPA F 7100.2-1, Annual Report for Gas Transmission and Gathering Systems. As of January 1, 2002, all incidents meeting the reporting criteria in 49 CFR 191.15 are to be reported using the revised form RSPA F 7100.2. Beginning March 15, 2002, the annual reports required by 49 CFR 191.17 are to be filed using the revised form RSPA F 7100.2-1.

Forms and instructions are available upon request as described in 49 CFR 191.19 or are downloadable from the OPS home page at http://ops.dot.gov (in the “FORMS” section under “ONLINE LIBRARY”). RSPA/OPS is also implementing electronic reporting for natural gas transmission pipeline incidents by January 1, 2002, and for annual reports by January 15, 2002, for the annual report due March 15, 2002. Details are available on the OPS home page.

RSPA/OPS has revised the incident report form to improve the usefulness of incident reporting by expanding the cause categories from five to 25. This will assist in trending and normalization of incident data. The natural gas transmission operator annual report form has also been revised to improve its usefulness. The annual report form includes two new sections: (1) Mileage by decade of installation and (2) mileage by class location.

RSPA/OPS understands that operators may need some time to adjust information collection systems and research the new information requested for the annual report filing. If exact information is unavailable, requests for extensions of the filing date may be made to OPS' Information Resources Manager at (202) 366-4569. Pipeline owners and operators may estimate mileage by decade and mileage by class location.

RSPA/OPS reminds owners and operators to file supplemental written reports (on RSPA Form F7100.2) if additional information on an incident later becomes available.

Owners and operators are reminded that all relevant costs must be included in the estimated property damage total on the initial written incident or accident report as well as on supplemental reports. This includes (but is not limited to) costs of: Property damage to the operator's facilities and to property of others; commodity/product not recovered; facility repair and replacement; gas distribution service restoration and relighting; leak locating; right-of-way clean-up, and environmental clean-up and damage. Facility repair, replacement, or change that is not necessitated by the incident should not be included.

Issued in Washington, DC on May 29, 2002.
Stacey L. Gerard,
Associate Administrator for Pipeline Safety.

[FR Doc. 02-14047 Filed 6-4-02; 8:45 am]

BILLING CODE 4910-60-P